DEPARTMENT OF ENERGY

Federal Energy Regulatory Commission

[Docket No. AD05-13-000]

Joint Boards on Security Constrained Economic Dispatch; Notice Announcing the Agenda for the South Joint Board Meeting

November 9, 2005.

On September 30, 2005, the Commission announced its intention to hold initial joint board meetings.¹ These joint board meetings are being held pursuant to section 1298 of the Energy Policy Act of 2005,² which added section 223 to the Federal Power Act (FPA).³ FPA section 223 requires the Commission to convene joint boards on a regional basis pursuant to FPA section 209 “to study the issue of security constrained economic dispatch for the various market regions,” “to consider issues relevant to what constitutes ‘security constrained economic dispatch’ and how such a mode of operating * * * affects or enhances the reliability and affordability of service,” and “to make recommendations to the Commission.” Subsequently, three notices were issued providing details on the joint boards and the joint board meetings.⁴

¹ Joint Boards on Security Constrained Economic Dispatch, 112 FERC ¶ 61,353 (2005) (September 30 Order).

² Public Law No. 109-58, § 1298, 119 Stat. 594, 986 (2005).

³ 16 U.S.C. 824 et seq. (2000).

⁴ The three notices were issued on October 14, 21 and 27, 2005, in accordance with the September 30 Order. The first notice announced the locations and other details for the joint board meetings. The second notice provided a list of the members of each joint board. A third notice provided hotel information for the joint board meetings for the PJM/MISO and Northeast regions and noted that the Province of Manitoba was participating as an observer in the PJM/MISO joint board.

This notice provides the agenda for the initial joint board meeting for the South region scheduled for Sunday, November 13, 2005 from 1 p.m. to 5 p.m. (Pacific Time) in the Valencia Conference Rooms 5 and 6 at Renaissance Esmeralda Resort and Spa, 44-400 Indian Wells Lane, Indian Wells, California 92210-9971. Attire for the meeting is business casual.

Attachment A of this notice contains the agenda for the South joint board meeting. Attachment B lays out a list of objectives/issues that the joint board will discuss to prepare the report due to Congress.

At the meeting, microphones will be made available to allow members of the audience to participate during a portion of the joint board's discussion as noted on the agenda. Electronic copies of presentation materials will be made available on the Commission Web site http://www.ferc.gov as they are received.

A free webcast of this event is available through http://www.ferc.gov. Anyone with Internet access who desires to view this event can do so by navigating to http://www.ferc.gov's Calendar of Events and locating this event in the Calendar. The event will contain a link to its webcast. The Capitol Connection provides technical support for the webcasts; and offers access to the open meetings via television in the DC area and via phone bridge for a fee. If you have any questions, visit www.CapitolConnection.org or contact Danelle Perkowski or David Reininger at 703-993-3100.

Transcripts of the meeting will be immediately available from Ace Reporting Company (202-347-3700 or 1-800-336-6646) for a fee. They will be available for the public on the Commission's eLibrary system seven calendar days after FERC receives the transcript.

Comments related to the meeting may be filed in the captioned docket no later than December 5, 2005. The comments will be publicly available for review in the Commission's e-Library.

For more information about the meeting, please contact Sarah McKinley at 202-502-8004 or sarah.mckinley@ferc.gov.

Magalie R. Salas,
Secretary.

[FR Doc. E5-6351 Filed 11-16-05; 8:45 am]

BILLING CODE 6717-01-P